NUCLEAR REGULATORY COMMISSION

[NRC-2010-0165]

Exelon Nuclear Texas Holdings, LLC; Notice of Receipt and Availability of Application for an Early Site Permit

On March 25, 2010, Exelon Nuclear Texas Holdings, LLC filed with the U.S. Nuclear Regulatory Commission (NRC, the Commission) pursuant to section 103 of the Atomic Energy Act and Title 10 of the Code of Federal Regulations (10 CFR) part 52, “Licenses, Certifications, and Approvals for Nuclear Power Plants,” an application for an early site permit (ESP) for the Victoria County Station Site (VCS) located in Victoria County, Texas.

An applicant may seek an ESP in accordance with Subpart A of 10 CFR part 52 separate from the filing of an application for a construction permit (CP) or combined license (COL) for a nuclear power facility. The ESP process allows resolution of issues relating to siting. At any time during the period of an ESP (up to 20 years), the permit holder may reference the permit in an application for a CP or COL.

Subsequent Federal Register notices will address the acceptability of the tendered ESP application for docketing and provisions for participation of the public in the ESP review process.

A copy of the application is available for public inspection at the Commission's Public Document Room (PDR), located at One White Flint North, Public File Area O1 F21, 11555 Rockville Pike (First Floor), Rockville, Maryland, and via the Agencywide Documents Access and Management System (ADAMS) Public Electronic Reading Room on the Internet at the NRC Web site, http://www.nrc.gov/reading-rm/adams.html. The ADAMS accession number is ML101110201. Future publicly available documents related to the application will also be posted in ADAMS. Persons who do not have access to ADAMS, or who encounter problems in accessing the documents located in ADAMS, should contact the NRC PDR staff by telephone at 1-800-397-4209 or 301-415-4737, or by e-mail to pdr@nrc.gov. The application is also available at http://www.nrc.gov/reactors/new-reactors/esp.html.

Dated at Rockville, Maryland, this 21st day of April 2010.
For the Nuclear Regulatory Commission.
Janelle B. Jessie,
Project Manager, ESBWR/ABWR Projects Branch 1, Division of New Reactor Licensing, Office of New Reactor.

[FR Doc. 2010-9821 Filed 4-27-10; 8:45 am]

BILLING CODE 7590-01-P